DEPARTMENT OF COMMERCE

Foreign-Trade Zones Board

[B-23-2019]

Foreign-Trade Zone (FTZ) 38—Mount Pleasant, South Carolina; Authorization of Production Activity; Electrolux Home Products, Inc. (Appliances), Anderson, South Carolina

On March 28, 2019, The South Carolina State Ports Authority, grantee of FTZ 38, submitted a notification of proposed production activity to the FTZ Board on behalf of Electrolux Home Products, Inc., within FTZ 38, in Anderson, South Carolina.

The notification was processed in accordance with the regulations of the FTZ Board (15 CFR part 400), including notice in the Federal Register inviting public comment (84 FR 15580-15581, April 16, 2019). On July 26, 2019, the applicant was notified of the FTZ Board's decision that no further review of the activity is warranted at this time. The production activity described in the notification was authorized, subject to the FTZ Act and the FTZ Board's regulations, including Section 400.14.

Dated: July 26, 2019.
Elizabeth Whiteman,
Acting Executive Secretary.

[FR Doc. 2019-16325 Filed 7-30-19; 8:45 am]

BILLING CODE 3510-DS-P